DEPARTMENT OF AGRICULTURE

Forest Service

California Coast Provincial Advisory Committee

AGENCY: Forest Service, USDA.

ACTION: Notice of meeting.

SUMMARY: The California Coast Provincial Advisory Committee (PAC) will meet on December 3 and 4, 2003, in Eureka, California. The purpose of the meeting is to discuss issues relating to implementing the Northwest Forest Plan (NWFP).

DATES: The meeting will be held from 1 p.m. to 5 p.m. on December 3, 2003, and from 8:30 a.m. to noon on December 4, 2003.

ADDRESSES: The meeting will be held at the Six Rivers National Forest Supervisor's Office Conference Room, 1330 Bayshore Way, Eureka, CA.

FOR FURTHER INFORMATION CONTACT: Phebe Brown, Committee Coordinator, USDA, Mendocino National Forest, 825 N. Humboldt Avenue, Willows, CA 95988, (530) 934-1137; EMAIL pybrown@fs.fed.us.

SUPPLEMENTARY INFORMATION: Agenda items to be covered include: (1) Regional Ecosystem Office (REO) update; (2) Forest Service Region 5 Northwest Forest Plan Review summary and update; (3) Update on planning for a Province fire ecology/fuels treatment workshop; (4) Presentation on NWFP monitoring; (5) Aquatic Conservation Subcommittee repot and recommendations; (6) Redwood National Park issues; (7) Presentation on Stewardship contracting; (8) Presentation on Pillsbury hazardous fuels reduction project; (9) Fish and Wildlife Service Jobs in the Woods Program; and (10) Public comment. The meeting is open to the public. Public input opportunity will be provided and individuals will have the opportunity to address the Committee at that time.

Dated: October 30, 2003
Phebe Y. Brown,
Staff Coordinator.

[FR Doc. 03-27790 Filed 11-4-03; 8:45 am]

BILLING CODE 3410-11-M